DEPARTMENT OF HEALTH AND HUMAN SERVICES

National Toxicology Program (NTP); Report on Carcinogens; Proposed Review Process for the 12th Report on Carcinogens (RoC): Request for Public Comment

AGENCY: National Institute of Environmental Sciences (NIEHS), National Institutes of Health (NIH).

ACTION: Request for public comment.

SUMMARY: The NTP invites public comments on the proposed review process for the 12th RoC. The proposed review process for the 12th RoC is available on the NTP Web site http://ntp.niehs.nih.gov (select “Report on Carcinogens”) or by contacting Dr. C.W. Jameson at the address provided below.

DATES: Comments will be accepted until September 18, 2006.

ADDRESSES: All correspondence should be directed to Dr. C. W. Jameson, National Toxicology Program, Report on Carcinogens, 79 Alexander Drive, Building 4401, Room 3118, P.O. Box 12233, Research Triangle Park, NC 27709; telephone: (919) 541-4096, fax: (919) 541-0144, e-mail: jameson@niehs.nih.gov.

SUPPLEMENTARY INFORMATION:

Background

This notice announces the proposed review process applicable to nominations to the 12th RoC. Two important new elements in the proposed RoC review process are (1) the public peer review of draft background documents by ad hoc scientific expert panels and (2) the peer review of draft substance profiles by the NTP Board of Scientific Counselors. In addition, the NTP will also, on a trial basis, prepare a response to public comments for the 12th RoC. The proposed RoC review process is described in more detail on the NTP Web site (http://ntp.niehs.nih.gov select “Report on Carcinogens”).

Request for Comments on the Proposed RoC Review Process

The NTP invites public comments on the proposed 12th RoC review process. The NTP will consider any comments received on or before September 18, 2006, as it finalizes the process to review nominations to the 12th RoC. The final 12th RoC review process will be announced in a future Federal Register notice and through NTP publications. Individuals submitting public comments are asked to include relevant contact information [name, affiliation and sponsoring organization (if any), address, telephone, fax, and e-mail]. Written submissions will be made available on the NTP Web site as they are received (http://ntp.niehs.nih.gov/ select “Report on Carcinogens”) and added to the public record.

Background Information on the Report on Carcinogens

The RoC is a congressionally mandated document (section 301(b)(4) of the Public Health Services Act, 42 U.S.C. 241(b)(4)), published by the Secretary of Health and Human Services (HHS), that identifies agents, substances, mixtures, or exposure circumstances (collectively referred to as “substances”) that may pose a carcinogenic hazard to human health. The Secretary, HHS, has delegated responsibility for preparing the draft report to the NTP. Substances are listed in the RoC as either known to be a human carcinogen or reasonably anticipated to be a human carcinogen. Development of the RoC is based upon a review of nominations (for new substances that are under consideration for listing or for reclassification of the listing status for a substance already listed) and a multi-step, scientific review process with opportunity for public comment.

Dated: August 7, 2006.
David A. Schwartz,
Director, National Institute of Environmental Health Sciences and National Toxicology Program.

[FR Doc. E6-13524 Filed 8-16-06; 8:45 am]

BILLING CODE 4140-01-P